NATIONAL SCIENCE FOUNDATION

Request for Information on Update to the 2016 National Artificial Intelligence Research and Development Strategic Plan

AGENCY: Networking and Information Technology Research and Development (NITRD) National Coordination Office (NCO), National Science Foundation.

ACTION: Notice of Request for Information.

SUMMARY: On behalf of the National Science and Technology Council's (NSTC) Select Committee on Artificial Intelligence (Select Committee), NITRD NCO requests input from all interested parties on the National Artificial Intelligence Research and Development Strategic Plan. Through this Request for Information (RFI), NITRD NCO seeks input from the public, including those directly performing Artificial Intelligence (AI) research and development (R&D) and directly affected by such R&D, on whether the strategic plan should be revised and, if so, the ways in which it may be improved. This includes suggestions as to the addition, removal, or modification of strategic aims, comments as to existing strategic aims as well as their past or future implementation by the Federal government. The public input provided in response to this RFI will inform NITRD NCO and the Select Committee in updating the National Artificial Intelligence Research and Development Strategic Plan.

DATES: Interested persons are invited to submit comments on or before 11:59 p.m. (ET) on October 26, 2018.

ADDRESSES: Comments submitted in response to this notice may be sent by any of the following methods:

• Email: AI-RFI@nitrd.gov. Email submissions should be machine-readable and not be copy-protected. Submissions should include “RFI Response: National Artificial Intelligence Research and Development Strategic Plan” in the subject line of the message.

• Fax: (202) 459-9673, Attn: Faisal D'Souza; or

• Mail: Attn: Faisal D'Souza, NCO, 2415 Eisenhower Avenue, Alexandria, VA 22314, USA.

Instructions: Response to this RFI is voluntary. Each individual or institution is requested to submit only one response. Submissions must not exceed 10 pages in 12 point or larger font, with a page number provided on each page. Responses should include the name of the person(s) or organization(s) filing the comment.

Responses to this RFI may be posted online at http://www.nitrd.gov. Therefore, we request that no business proprietary information, copyrighted information, or personally identifiable information be submitted in response to this RFI.

In accordance with FAR 15.202(3), responses to this notice are not offers and cannot be accepted by the Government to form a binding contract. Responders are solely responsible for all expenses associated with responding to this RFI.

FOR FURTHER INFORMATION CONTACT: Faisal D'Souza at (202) 459-9674 or AI-RFI@nitrd.gov, or by post mailing to 2415 Eisenhower Avenue, Alexandria, VA 22314, USA. Individuals who use a telecommunications device for the deaf (TDD) may call the Federal Information Relay Service (FIRS) at 1-800-877-8339 between 8 a.m. and 8 p.m., Eastern time, Monday through Friday.

SUPPLEMENTARY INFORMATION: Background: In 2016, the National Artificial Intelligence Research and Development Strategic Plan was released by NITRD to guide government efforts in AI R&D. The plan called for seven strategic aims:

Strategy 1: Make long-term investments in AI research.

Strategy 2: Develop effective methods for human-AI collaboration.

Strategy 3: Understand and address the ethical, legal, and societal implications of AI.

Strategy 4: Ensure the safety and security of AI systems.

Strategy 5: Develop shared public datasets and environments for AI training and testing.

Strategy 6: Measure and evaluate AI technologies through standards and benchmarks.

Strategy 7: Better understand the national AI R&D workforce needs.

Subsequently, on May 10, 2018, the White House chartered the Select Committee under the NSTC in order to improve the coordination of Federal efforts related to AI and ensure continued U.S. leadership in AI. Because AI is a cutting-edge technology with realized or potential impact on many parts of society and science, and both the private sector and the Federal government continue to invest heavily in AI Research and Development (R&D), NITRD NCO and the Select Committee seek to update the strategic plan to reflect current priorities. Following the receipt of comments, the Select Committee, in consultation with the NSTC Subcommittee on Machine Learning and AI (MLAI) and the NITRD AI R&D Interagency Working Group, will consider the input provided in updating the strategic plan.

Reference: 2016 National Artificial Intelligence Research and Development Strategic Plan: https://www.nitrd.gov/pubs/national_ai_rd_strategic_plan.pdf.

Submitted by the National Science Foundation in support of the Networking and Information Technology Research and Development (NITRD) National Coordination Office (NCO) on September 21, 2018.

Suzanne H. Plimpton,
Reports Clearance Officer, National Science Foundation.

[FR Doc. 2018-20914 Filed 9-25-18; 8:45 am]

BILLING CODE 7555-01-P